DEPARTMENT OF ENERGY

Federal Energy Regulatory Commission

[Docket No. ER00-2320-000]

Pacific Gas and Electric Company; Notice of Filing

May 17, 2000.

Take notice that on April 27,2000, Pacific Gas and Electric Company (PG&E), tendered for filing the Small Facilities Authorization Letter No. 4, submitted pursuant to the Procedures for Implementation (Procedures), of Section 3.3 of the 1987 Agreement between PG&E and the City and County of San Francisco (City). This is PG&E's third quarterly filing submitted pursuant to Section 4 of the Procedures, which provides for the quarterly filing of Facilities Authorization Letters.

The Facilities Authorization Letter streamlines the procedures for filing numerous Facilities, and facilitates payment of PG&E's costs of designing, constructing, procuring, testing, placing in operation, owning, operating and maintaining the customer-specific Facilities required for firm transmission and distribution service requested by City under this Facilities Authorization Letter.

PG&E has requested certain waivers.

Copies of this filing have been served upon City and the CPUC.

Any person desiring to be heard or to protest such filing should file a motion to intervene or protest with the Federal Energy Regulatory Commission, 888 First Street NE, Washington, DC 20426, in accordance with Rules 211 and 214 of the Commission's Rules of Practice and Procedure (18 CFR 385.211 and 385.214). All such motions and protests should be filed on or before May 30, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-12857 Filed 5-22-00; 8:45 am]

BILLING CODE 6717-01-M